TENNESSEE VALLEY AUTHORITY

Webinar Meeting of the Regional Energy Resource Council

AGENCY: Tennessee Valley Authority (TVA).

ACTION: Notice of webinar meeting.

SUMMARY: The TVA Regional Energy Resource Council (RERC) has scheduled a webinar meeting to discuss guiding principles that TVA should consider when designing wholesale rate changes and the mechanisms TVA should use to engage Valley stakeholders in discussions relating to wholesale rate changes. The RERC initiated discussions on these issues at its meeting on November 29, 2017, and intends to continue those discussions at this scheduled webinar meeting.

The RERC was established to advise TVA on its energy resource activities and the priority to be placed among competing objectives and values. Notice of this webinar meeting is given under the Federal Advisory Committee Act (FACA).

DATES: The webinar meeting will be held on Friday, December 22, 2017, from 10:30 a.m. to 11:30 a.m., EST.

ADDRESSES: The meeting will be conducted by webinar only. An individual requiring special accommodation for a disability, should let the contact below know at least a week in advance.

FOR FURTHER INFORMATION CONTACT: Barbie Perdue, 865-632-6113, baperdue@tva.gov.

SUPPLEMENTARY INFORMATION:

The meeting agenda includes the following items:

1. Introductions and Webinar Logistics

2. Remarks of Wayne Davis, RERC Chair

3. Summary of Rate Change Discussion from November 29 meeting

4. Council Discussion and Advice

The webinar is open to the public, to register for webinar go to http://dpregister.com/171222. No oral comments from the public will be accepted during the webinar session. The public may provide written comments to the RERC at any time through links on TVA's Web site at www.tva.com/rerc or by mailing written comments to the Regional Energy Resource Council, Tennessee Valley Authority, 400 West Summit Hill Drive, WT-9-D, Knoxville, Tennessee 37902.

Dated: December 1, 2017.
Joseph J. Hoagland,
Vice President, Enterprise Relations and Innovation, Tennessee Valley Authority.

[FR Doc. 2017-26365 Filed 12-6-17; 8:45 am]

BILLING CODE 8120-08-P